CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Operation AmeriCorps Evaluation for review and approval in accordance with the Paperwork Reduction Act of 1995, Pub. L. 104-13, (44 U.S.C. Chapter 35). Copies of this ICR, with applicable supporting documentation, may be obtained by calling the Corporation for National and Community Service, Joseph Breems, at 202-606-6992 or email to jbreems@cns.gov. Individuals who use a telecommunications device for the deaf (TTY-TDD) may call 1-800-833-3722 between 8:00 a.m. and 8:00 p.m. Eastern Time, Monday through Friday.

DATES: Comments may be submitted, identified by the title of the information collection activity, within February 10, 2016.

ADDRESSES: Comments may be submitted, identified by the title of the information collection activity, to the Office of Information and Regulatory Affairs, Attn: Ms. Sharon Mar, OMB Desk Officer for the Corporation for National and Community Service, by either of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on 10/26/2015 at 2015-27155 FR 65219. This comment period ended 12/28/2015. No public comments were received from this Notice. Description: This two year evaluation seeks to assess the implementation of the new Operation AmeriCorps initiative, and to report on early results from the intended outcomes of each grantee's project. The evaluation will examine the extent to which multiple streams of national service are integrated and complement one another in each project; determine whether and how community capacity is being developed and sustained; and examine the Operation AmeriCorps grant making process to determine if this type of grant could be successfully used in future grants competitions. Researchers from CNCS will collect qualitative and quantitative data from grantees and their partners, AmeriCorps members, member supervisors, and program beneficiaries. Operation AmeriCorps grantees are required to participate in the evaluation as a condition of grant award.

Type of Review: New.

Agency: Corporation for National and Community Service.

Title: Operation AmeriCorps Evaluation.

OMB Number: TBD.

Agency Number: None.

Affected Public: Organizations receiving Operation AmeriCorps grants and their partners involved in implementing the grant, including: The legal applicant organization; the legal sub-applicant organization; key operating partners identified by the legal applicant and/or sub-applicant; peripheral supporting organizations identified by key operating partners and the legal applicant and/or sub-applicant; AmeriCorps members working on an Operation AmeriCorps project; member supervisors working on an Operation AmeriCorps project; beneficiaries being served by an Operation AmeriCorps project.

Total Respondents: 340 total for this two year evaluation (170 per year) (all respondents may or may not be unique depending on individuals selected by grantee to respond to each instrument each year).

Frequency: Two times annually for survey; two times annually for grantee interviews; one time annually for focus groups.

Average Time per Response: Averages 30 minutes for the survey; 60-90 minutes per interview; 60 minutes per focus group.

Estimated Total Burden Hours: 420 hours (25,200 minutes) total for this two-year evaluation (210 hours or 12,600 minutes per year).

Total Burden Cost (capital/startup): None.

Total Burden Cost (operating/maintenance): None.

Dated: January 6, 2016.
Mary Hyde,
Director of Research and Evaluation.

[FR Doc. 2016-00321 Filed 1-8-16; 8:45 am]

BILLING CODE 6050-28-P